DEPARTMENT OF THE INTERIOR

Bureau of Indian Affairs

[189A2100DD/AAKC001030/A0A501010.999900 253G]

Salt River Pima-Maricopa Indian Community; Amendment to Alcoholic Beverage Control Ordinance

AGENCY: Bureau of Indian Affairs, Interior.

ACTION: Notice.

SUMMARY: This notice publishes an amendment to the Salt River Pima-Maricopa Indian Community's Chapter 14, Alcoholic Beverage Control Ordinance.

DATES: This amendment shall be applicable December 21, 2017.

FOR FURTHER INFORMATION CONTACT: Ms. Sharlot Johnson, Tribal Government Services Officer, Western Regional Office, Bureau of Indian Affairs, 2600 North Central Avenue, Phoenix, AZ 85004, Telephone: (602) 379-6786, Fax: (602) 379-4100.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. On June 7, 2017, the Salt River Pima-Maricopa Community Council duly adopted the amendment to the Community's Chapter 14, Alcoholic Beverage Control Ordinance by Ordinance SRO-492-2017. This Federal Register notice amends the existing Salt River Pima-Maricopa Indian Community's Chapter 14, Alcoholic Beverage Control Ordinance, enacted by the Salt River Pima-Maricopa Indian Community Council, which was published in the Federal Register on January 21, 2016 (81 FR 3453). By the delegated authority contained in 3 IAM 4.4, the Western Regional Director, Bureau of Indian Affairs, approved the Salt River Pima-Maricopa Indian Community's amendment on August 9, 2017.

This notice is published in accordance with the authority delegated by the Secretary of the Interior to the Assistant Secretary-Indian Affairs. I certify that the Salt River Pima-Maricopa Indian Community of the Salt River Reservation, Arizona, duly adopted this amendment to the Community's Chapter 14, Alcoholic Beverage Control Ordinance on June 7, 2017.

Authority: 18 U.S.C. 1161

Dated: October 19, 2017.
John Tahsuda,
Acting Assistant Secretary-Indian Affairs.

The Salt River Pima-Maricopa Indian Community's Chapter 14, Alcoholic Beverage Control Ordinance, Section 14-25, is amended to add the new subsection (f) as follows:

(f) Alcoholic beverages may be possessed and consumed (and not sold) at a private event of a bona fide commercial entity who is a lessee within the Community's designated area as defined by Section 14-54, one-time a calendar year, if the following conditions are met:

(1) The host is serving alcohol beverages free of charge and there is no fee to be admitted into the private event;

(2) the event is private and only open to a known group of guests (and not the public)

(3) the host is a commercial tenant within the Community;

(4) the host has a Business License with the Community;

(5) the host notifies the Office at least 30 days prior to the event by the filing of a notification form as prescribed by the Office, and that provides specifics as to the private event, agrees in writing to follow all applicable Community laws and Arizona State alcoholic beverage laws, and also agrees to assumes all risk and liability for any damages that may occur as a result of this event;

(6) the Office is aware in writing of the event at least 30 days prior to it being held and is able to provide notice of the event to the SRPD and any other necessary departments; and

(7) the host agrees to obtain a special use permit or other licensing depending on the size and nature of the event (including any additional costs to provide police or other staffing), at the direction of the Office.

The Salt River Pima-Maricopa Indian Community's Chapter 14, Alcoholic Beverage Control Ordinance, Section 14-55(6)(b)(1)-(3) shall be repealed and replaced with new Sections 14-55(6)(b)(1)-(5) as follows:

1. A special event license is a temporary license and authorizes the sale of liquor for a limited time in the Community;

2. An applicant may be issued a special event license for no more than 10 consecutive days per license during the course of a calendar year;

3. An unlicensed premises may hold up to 12 special events per calendar year, and a licensed location or government owned location may hold unlimited events per year;

4. A special event license shall only be available to a business that is not in the primary business of selling food or alcohol;

5. Special Event licenses shall only be issued if it also meets the requirements of the Arizona liquor law requirements.

The Salt River Pima-Maricopa Indian Community's Chapter 14, Alcoholic Beverage Control Ordinance, Section 14-64(5) shall add the following category as (h):

Licenses | Original | Renewal
h. Sports Stadium/Entertainment Venue | $2000.00 | $500.00

The Salt River Pima-Maricopa Indian Community's Chapter 14, Alcoholic Beverage Control Ordinance, Section 14-102(f)'s first sentence shall be amended to read as follows (subsections (f)(1)-(4) shall remain the same).

It shall be unlawful for a licensee or an employee of the licensee to consume alcoholic beverages on or about the licensed premises, or to be intoxicated or in a disorderly condition during such periods as when such person is working at the licensed premises, except that:

The Salt River Pima-Maricopa Indian Community's Chapter 14, Alcoholic Beverage Control Ordinance, Section 14-102 shall have the following 102(cc)-(mm) added.

(cc) It is unlawful for a person to take or solicit orders for alcoholic beverages unless the person is a salesman or solicitor of a licensed wholesaler, a salesman or solicitor of a distiller, brewer, vintner, importer or broker or a registered retail agent.

(dd) It is unlawful for any retail licensee to purchase alcoholic beverages from any person other than a solicitor or salesman of a wholesaler licensed by the State of Arizona.

(ee) It is unlawful for a retailer to acquire an interest in property owned, occupied or used by a wholesaler in the wholesaler's business, or in a license with respect to the premises of the wholesaler.

(ff) It is unlawful for an on-sale retailer to permit an employee or for an employee to solicit or encourage others, directly or indirectly, to buy the employee drinks or anything of value in the licensed premises during the employee's working hours. No on-sale retailer shall serve employees or allow a patron of the establishment to give alcoholic beverages to, purchase liquor for or drink liquor with any employee during the employee's working hours.

(gg) It is unlawful for a person to have possession of or to transport alcoholic beverages which are manufactured in a distillery, winery, brewery or rectifying plant contrary to the laws of the United States, the Community and the State of Arizona. Any property used in transporting such alcoholic beverages shall be forfeited, seized and disposed of.

(hh) It is unlawful for a person who is obviously intoxicated to buy or attempt to buy alcoholic beverages from a licensee or employee of a licensee or to consume alcoholic beverages on a licensed premises.

(ii) It is unlawful for a licensee to use a vending machine for the purpose of dispensing alcoholic beverages.

(jj) It is unlawful for a retailer to knowingly allow a customer to bring alcoholic beverages onto the licensed premises.

(kk) It is unlawful for a person to purchase, offer for sale or use any device, machine or process which mixes alcoholic beverages with pure oxygen or another gas to produce a vaporized product for the purpose of consumption by inhalation or to allow patrons to use any item for the consumption of vaporized alcoholic beverages.

(ll) It is unlawful for a retail licensee or an employee of a retail licensee to sell alcoholic beverages to a person if the retail licensee or employee knows the person intends to resell the alcoholic beverages.

(mm) It is unlawful for a person to reuse a bottle or other container authorized for use by the laws of the United States or any agency of the United States for the packaging of distilled spirits or for a person to increase the original contents or a portion of the original contents remaining in a liquor bottle or other authorized container by adding any substance.

[FR Doc. 2017-25109 Filed 11-20-17; 8:45 am]

BILLING CODE 4337-15-P